DEPARTMENT OF HEALTH AND HUMAN SERVICES

Office of the Secretary

[Document Identifier: OS-0990-New]

Agency Information Collection Activities: Proposed Collection; Comment Request

AGENCY: Office of the Secretary.

In compliance with the requirement of section 3506(c)(2)(A) of the Paperwork Reduction Act of 1995, the Office of the Secretary (OS), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Type of Information Collection Request: New Collection, Regular Approval;

Title of Information Collection: Medical Reserve Corps (MRC) Unit Profile and Reports;

Form/OMB No.: OS-0990-New;

Use: Medical Reserve Corps units are currently located in 330 communities across the United States and represent a resource of over 50,000 medical and public health volunteers. In order to better support the MRC units in communities across the United States, and to plan for future emergencies that are national in scope, detailed information about the MRC units, including unit demographics, contact information (regular and emergency), volunteer numbers, and information about activites is needed. MRC unit leaders will be asked to voluntarily update this information at least quarterly.

Frequency: Reporting, quarterly and on occasion;

Affected Public: State, local, or tribal governments, or other for profit, not for profit institutions;

Annual Number of Respondents: 400;

Total Annual Responses: 3,200;

Average Burden Per Response: 1 hour;

Total Annual Hours: 2,800.

To obtain copies of the supporting statement and any related forms for the proposed paperwork collections referenced above, access the HHS Web site address at http://www.hhs.gov/oirm/infocollect/pending/ or e-mail your request, including your address, phone number, OMB number, and OS document identifier, to naomi.cook@hhs.gov, or call the Reports Clearance Office on (202) 690-6162. Written comments and recommendations for the proposed information collections must be mailed within 60 days of this notice directly to the OS Paperwork Clearance Officer designated at the following address: Department of Health and Human Services, Office of the Secretary, Assistant Secretary for Budget, Technology, and Finance, Office of Information and Resource Management, Attention: Naomi Cook (0990-New), Room 531-H, 200 Independence Avenue, SW., Washington, DC 20201.

Dated: October 19, 2005.
Robert E. Polson,
Office of the Secretary, Paperwork Reduction Act Reports Clearance Officer.

[FR Doc. 05-21516 Filed 10-27-05; 8:45 am]

BILLING CODE 4150-28-P